DEPARTMENT OF THE INTERIOR

Minerals Management Service

Environmental Documents Prepared for Proposed Oil and Gas Operations on the Gulf of Mexico Outer Continental Shelf (OCS)

AGENCY: Minerals Management Service, Interior.

ACTION: Notice of the availability of environmental document; prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Western Geco, Geological & Geophysical Exploration Plan for Chevron Texaco SEA L04-08 | Located in the central Gulf of Mexico east of Galveston, Texas | 01-Apr-04.
Texaco Energy Technology, Inc., Geological & Geophysical Exploration Plan SEA L04-09 | Located in the western Gulf of Mexico east of Galveston, Texas | 07-Apr-04.
Helis Oil & Gas Company, LLC, Structure Removal SEA ES/SR 04-051 | South Timbalier, Block 211, Lease OCS-G 16435, located 42 miles from the nearest Louisiana shoreline | 13-Apr-04.
Petrobras America, Inc., Initial Exploration Plan SEA N-8009 & N-8011 | Lloyd Ridge, Blocks 45, 46 & 48, Leases OCS-G 23453, OCS-G 23454 & OCS-G 23456, located 105 miles from the nearest Louisiana shoreline, 162 miles from the nearest Mississippi shoreline, 163 miles from the nearest Alabama shoreline, and 159 miles from the nearest Florida shoreline | 15-Apr-04.
Callon Petroleum Operating Company, Structure Removal SEA ES/SR 04-044 | East Cameron (South Addition), Block 275, Lease OCS-G 17871, located 81 miles from the nearest Louisiana shoreline | 20-Apr-04.
Shell Offshore, Inc., Structure Removal SEA ES/SR 04-059 | Brazos, Block A 24, Lease OCS-G 21315, located 37 miles from the nearest Texas shoreline | 22-Apr-04.
Anadarko Exploration & Production Company, LP, Structure Removal SEA ES/SR 04-040 | High Island, Block 129, Lease OCS-G 01848, located 26 miles from the nearest Texas shoreline | 26-Apr-04.
Chevron Texaco Energy Technology Co., Geological & Geophysical Exploration Plan for Fugro McClelland-Marine Geosciences, Inc. SEA L04-11 | Located in the central Gulf of Mexico east of Galveston, Texas | 26-Apr-04.
Naval Research Lab, Geological & Geophysical Exploration Plan SEA L04-12 | Located in the central Gulf of Mexico south of Gulfport, Mississippi | 26-Apr-04.
Apache Corporation, Structure Removal SEA ES/SR 04-058 | North Padre Island (East), Block A 12, Lease OCS-G 22159, located 40 miles from the nearest Texas shoreline | 26-Apr-04.
Pogo Producing Company, Structure Removal SEA ES/SR 04-045, 04-046, 04-047 | Ship Shoal (South Addition), Block 240, Lease OCS-G 10779, located 42 miles from the nearest Louisiana shoreline | 26-Apr-04.
Cairn Energy USA, Inc., Structure Removal SEA ES/SR 04-052 | Ship Shoal (South Addition), Block 261, Lease OCS-G 14506, located 46 miles from the nearest Louisiana shoreline | 26-Apr-04.
Anadarko Exploration & Production Company, LP, Structure Removal SEA ES/SR 04-039 | South Marsh Island, Block 280, Lease OCS-G 14456, located 22 miles from the nearest Louisiana shoreline | 26-Apr-04.
El Paso Production Oil & Gas Company, Structure Removal SEA ES/SR 04-050 | High Island (South Addition), Block A 519, Lease OCS-G 08184, located 91 miles from the nearest Texas shoreline | 27-Apr-04.
Maritech Resources, Inc., Structure Removal SEA ES/SR 04-008 | South Pass (South), Block 78, Lease OCS-G 02185, located 6 miles from the nearest Louisiana shoreline | 29-Apr-04.
Chevron USA, Inc., Structure Removal SEA ES/SR 04-055 | Bay Marchand, Block 2, Lease OCS-G 00369, located 5 miles from the nearest Louisiana shoreline | 05-May-04.
Chevron USA, Inc., Structure Removal SEA ES/SR 04-053, 04-054, 04-056, 04-057 | Grand Isle, Block 26, Lease OCS-G 00390, located 5 miles from the nearest Louisiana shoreline | 05-May-04.
Apache Corporation, Structure Removal SEA ES/SR 04-065 | High Island, Block 117, Lease OCS-G 17147, located 25 miles from the nearest Louisiana shoreline | 05-May-04.
Fugro GeoServices, Inc., Geological & Geophysical Exploration Plan SEA L04-22 | Located in the central Gulf of Mexico south of Patterson, Louisiana | 05-May-04.
Western Geco, Geological & Geophysical Exploration Plan SEA L04-28 | Located in the western Gulf of Mexico east of Galveston, Texas | 05-May-04.
Hunt Oil Company, Structure Removal SEA ES/SR 04-060, 04-061, 04-062 | Eugene Island, Block 63, Lease OCS-G 00425, located 15 to 16 miles from the nearest Louisiana shoreline | 07-May-04.
Hunt Oil Company, Structure Removal SEA ES/SR 04-063, 04-064 | Eugene Island, Block 76, Lease OCS-G 04823, located 15 to 16 miles from the nearest Louisiana shoreline | 07-May-04.
Texas A&M University, Geological & Geophysical Exploration Plan SEA L04-20 | Located in the central and western Gulf of Mexico east of Galveston, Texas | 10-May-04.
Sonsub, Inc., Geological & Geophysical Exploration Plan for BP Exploration & Production, Inc. SEA L04-21 | Located in the central Gulf of Mexico south of Fourchon, Louisiana | 10-May-04.
El Paso Production Oil & Gas Company, Structure Removal SEA ES/SR 04-050A | High Island (South Addition), Block A 519 Lease OCS-G 08184 located 91 miles from the nearest Texas shoreline | 11-May-04.
CGG Americas, Inc., Geological & Geophysical Exploration Plan SEA L04-30 | Located in the central Gulf of Mexico south of Fourchon, Louisiana | 12-May-04.
Apache Corporation, Structure Removal SEA ES/SR 04-066 | High Island, Block 87, Lease OCS-G 15772, located 21 miles from the nearest Louisiana shoreline | 13-May-04.
C & C Technologies, Inc., Geological & Geophysical Exploration Plan for BP America, Inc. SEA L04-29 | Located in the central Gulf of Mexico south of Fourchon, Louisiana | 13-May-04.
Newfield Exploration Company, Structure Removal SEA ES/SR 04-067 | South Timbalier, Block 111, Lease OCS-G 05602, located 30 miles from the nearest Louisiana shoreline | 13-May-04.
Chevron USA, Inc., Structure Removal SEA ES/SR 04-001 | Mississippi Canyon, Block 63, Lease OCS-G 03206, located 8 miles from the nearest Louisiana shoreline | 18-May-04.
Fugro GeoServices, Inc., Geological & Geophysical Exploration Plan SEA L04-36 | Located in the central Gulf of Mexico south of Patterson, Louisiana | 25-May-04.
UNOCAL, Structure Removal SEA ES/SR 04-068 | Eugene Island, Block 24, Lease OCS-G 02893, located 6 miles from the nearest Louisiana shoreline | 26-May-04.
SPN Resources, LLC, Structure Removal SEA ES/SR 04-069 | Brazos, Block 475, Lease OCS-G 09021, located 14 miles from the nearest Texas shoreline | 27-May-04.
Shell Offshore, Inc., Initial Exploration Plan SEA N-8052 | DeSoto Canyon, Blocks 485 and 529, Leases OCS-G 23512 & OCS-G 23517, located 82 miles from the nearest Louisiana shoreline and 128 miles from the nearest Florida shoreline | 27-May-04.
Murphy Exploration & Production Company, Structure Removal SEA ES/SR 04-070 | Matagorda Island, Block 589, Lease OCS-G 10196, located 17 miles from the nearest Texas shoreline | 27-May-04.
Murphy Exploration & Production Company, Structure Removal SEA ES/SR 04-071, 04-072, 04-073 | Matagorda Island, Block 604, Lease OCS-G 06037, located 17 miles from the nearest Texas shoreline | 27-May-04.
Chevron USA, Inc., Structure Removal SEA ES/SR 04-074 | South Timbalier, Block 36, Lease OCS-G 02624, located 7 miles from the nearest Louisiana shoreline | 27-May-04.
Newfield Exploration Company, Structure Removal SEA ES/SR 04-020 | South Marsh Island (South Addition), Block 116, Lease OCS-G 02095, located 81 miles from the nearest Louisiana shoreline | 02-Jun-04.
Hunt Petroleum (AEC), Inc., Structure Removal SEA ES/SR 97-111A | Vermilion, Block 249, Lease OCS-G 06678, located 62 miles from the nearest Louisiana shoreline | 03-Jun-04.
Union Oil Company of California, Structure Removal SEA ES/SR 03-194A, 03-195A | Vermilion, Block 262, Lease OCS-G 02081, located 85 miles from the nearest Louisiana shoreline | 03-Jun-04.
C & C Technologies, Inc., Geological & Geophysical Exploration Plan SEA L04-40 | Located in the central Gulf of Mexico south of Fourchon, Louisiana | 07-Jun-04.
Murphy Exploration & Production Company, Structure Removal SEA ES/SR 04-076, 04-077, 04-078, 04-079 | Ship Shoal, Block 167, Lease OCS-G 00818, located 27 miles from the nearest Louisiana shoreline | 10-Jun-04.
Chevron USA, Inc. Structure Removal SEA ES/SR 04-048, 04-049 | West Cameron, Block 564, Lease OCS-G 02014, located 102 miles from the nearest Louisiana shoreline | 10-Jun-04.
Fugro GeoServices, Inc., Geological and Geophysical Exploration Plan SEA L04-42 | Located in the central Gulf of Mexico south of Patterson, Louisiana | 14-Jun-04.
Murphy Exploration & Production Company, Structure Removal SEA ES/SR 04-075 | Ship Shoal, Block 166, Lease OCS-G 05549, located 25 miles from the nearest Louisiana shoreline | 18-Jun-04.
Energy Resource Technology, Inc., Structure Removal SEA ES/SR 04-080 | Brazos, Block 437, Lease OCS-G 04140, located 11 miles from the nearest Texas shoreline | 21-Jun-04.
W & T Offshore, Inc., Structure Removal SEA ES/SR 04-084 | South Marsh Island (South), Block 117, Lease OCS-G 05465, located 75 miles from the nearest Louisiana shoreline | 24-Jun-04.
Maritech Resources, Inc., Structure Removal SEA ES/SR 04-085 | Eugene Island, Block 214, OCS-G 17986, located 40 miles from the nearest Louisiana shoreline | 30-Jun-04.
SPN Resources, LLC, Structure Removal SEA ES/SR 04-081 | Mobile, Block 820, Lease OCS-G 10921, located 5 miles from the nearest Alabama shoreline | 30-Jun-04.
SPN Resources, LLC, Structure Removal SEA ES/SR 04-082 | Mobile, Block 864, Lease OCS-G 05064, located 5 miles from the nearest Alabama shoreline | 30-Jun-04.
Maritech Resources, Inc., Structure Removal SEA ES/SR 04-086 | West Delta, Block 32, Lease OCS-G 00367, located 9 miles from the nearest Louisiana shoreline | 30-Jun-04.
Maritech Resources, Inc., Structure Removal SEA ES/SR 04-087 | West Delta, Block 32, Lease OCS-G 01332, located 9 miles from the nearest Louisiana shoreline | 30-Jun-04.
TDC Energy, LLC, Structure Removal SEA ES/SR 04-083 | West Delta, Block 48, Lease OCS-G 10876, located 8 miles from the nearest Louisiana shoreline | 30-Jun-04.

Persons interested in reviewing environmental documents for the proposals listed above or obtaining information about SEAs and FONSIs prepared for activities on the Gulf of Mexico OCS are encouraged to contact MMS at the address or telephone listed in the FOR FURTHER INFORMATION section.

Dated: July 29, 2004.
Chris C. Oynes,
Regional Director, Gulf of Mexico OCS Region.

[FR Doc. 04-21465 Filed 9-23-04; 8:45 am]

BILLING CODE 4310-MR-P